DEPARTMENT OF HEALTH AND HUMAN SERVICES

Centers for Disease Control and Prevention

Board of Scientific Counselors, National Center for Environmental Health/Agency for Toxic Substances and Disease Registry (BSC, NCEH/ATSDR)

In accordance with section 10(a)(2) of the Federal Advisory Committee Act (Pub. L. 92-463), CDC announces the following meetings for the aforementioned committee:

Times and Dates: 8:30 a.m.-4:30 p.m., November 6, 2008. 8:30 a.m.-12:00 p.m., November 7, 2008.

Place: Marriott Century Center Hotel, 2000 Century Boulevard, Chamblee, Georgia 30341.

Status: Open to the public, limited only by the space available. The meeting room accommodates approximately 75 people.

Purpose: The Secretary, Department of Health and Human Services (HHS) and by delegation, the Director, CDC, and Administrator, NCEH/ATSDR, are authorized under Section 301 (42 U.S.C. 241) and Section 311 (42 U.S.C. 243) of the Public Health Service Act, as amended, to: (1) Conduct, encourage, cooperate with, and assist other appropriate public authorities, scientific institutions, and scientists in the conduct of research, investigations, experiments, demonstrations, and studies relating to the causes, diagnosis, treatment, control, and prevention of physical and mental diseases and other impairments; (2) assist states and their political subdivisions in the prevention of infectious diseases and other preventable conditions and in the promotion of health and well being; and (3) train state and local personnel in health work. The BSC, NCEH/ATSDR provides advice and guidance to the Secretary, HHS; the Director, CDC; the Administrator, ATSDR; and the Director, NCEH/ATSDR, regarding program goals, objectives, strategies, and priorities in fulfillment of the agency's mission to protect and promote people's health. The board provides advice and guidance that will assist NCEH/ATSDR in ensuring scientific quality, timeliness, utility, and dissemination of results. The board also provides guidance to help NCEH/ATSDR work more efficiently and effectively with its various constituents and to fulfill its mission in protecting America's health.

Matters To Be Discussed: An update on NCEH/ATSDR's Office of the Director; updates on NCEH/ATSDR work on Formaldehyde and FEMA Trailers; discussion of the findings on the BSC Program Peer Review of NCEH/ATSDR's internal clearance and external peer review processes and policies; a presentation of the response to the Preparedness and Emergency Response Peer Review Report from the Office of Terrorism Preparedness and Emergency Response; updates on public health issues: selenium poisoning associated with an over-the-counter dietary supplement; exercising the response capability of CDC and the Laboratory Response Network to test 10,000 clinical samples for nerve agent exposure; and vapor intrusion activities at hazardous waste sites.

Agenda items are tentative and subject to change.

Contact Person for More Information: Sandra Malcom, Committee Management Specialist, NCEH/ATSDR, 4770 Buford Highway, Mail Stop F-61, Chamblee, Georgia 30345; Telephone (770) 488-0575, Fax (770) 488-3377; E-mail: smalcom@cdc.gov. The deadline for notification of attendance is October 31, 2008.

The Director, Management Analysis and Services Office, has been delegated the authority to sign Federal Register notices pertaining to announcements of meetings and other committee management activities for both CDC and the Agency for Toxic Substances and Disease Registry.

Dated: September 16, 2008.
Elaine L. Baker,
Director, Management Analysis and Services Office, Centers for Disease Control and Prevention.

[FR Doc. E8-22346 Filed 9-23-08; 8:45 am]

BILLING CODE 4163-18-P